DEPARTMENT OF THE TREASURY

Internal Revenue Service

[REG-106030-98]

Proposed Collection; Comment Request for Regulation Project

Correction

In notice document 03-25917 beginning on page 59239 in the issue of Tuesday, October 14, 2003, make the following correction:

On page 59240, in the first column, under the heading SUPPLEMENTARY INFORMATION, in the fourth line, “OMB Number: 154-1718” should read “OMB Number: 1545-1718”.

[FR Doc. C3-25917 Filed 12-10-03; 8:45 am]

BILLING CODE 1505-01-D